DEPARTMENT OF COMMERCE

International Trade Administration

Establishment of Expedited Trade Mission Procedures

AGENCY: International Trade Administration, Department of Commerce.

ACTION: Notice.

SUMMARY: The United States Department of Commerce, International Trade Administration, is establishing new procedures for Expedited Trade Missions. When the Secretary approves a Decision Memo justifying the use of expedited procedures, the Department of Commerce will endeavor to conduct recruitment and selection for the mission within 2-3 weeks. Applicants should be aware that mission statements for Expedited Trade Missions will NOT be notified in the Federal Register. Instead, they will be posted online at: http://www.export.gov/trademissions/eg_main_023185.asp.

Applicants should also be aware that deadlines for applying for Expedited Trade Missions will be extremely short. The procedures for selecting participants for Expedited Trade Missions will be compressed. All interested parties that meet the conditions of participation are encouraged to apply, and all applicants will be evaluated on an equal basis with respect to the participation criteria.

DATES: Expedited Trade Mission procedures are established as of April 28, 2015.

SUPPLEMENTARY INFORMATION: The Department of Commerce endeavors to plan trade missions as far in advance as is feasible. However, in certain circumstances it is in the Department's interest, and consistent with its priorities, to lead a trade mission on an expedited basis, contingent on the availability of Departmental resources.

The Department is establishing new procedures for Expedited Trade Missions that will allow it, upon the approval of the Secretary, Deputy Secretary or Under Secretary of International Trade, to lead trade missions on an expedited basis. When the Secretary, Deputy Secretary or Under Secretary of International Trade approves a Decision Memo justifying the use of expedited procedures, the Department will endeavor to conduct recruitment and selection for the mission within 2-3 weeks.

The mission statements for Expedited Trade Missions will only be posted on the Web site above. The mission statement will include the conditions of participation and the participation criteria for the Expedited Trade Mission. Any party interested in participating is encouraged to apply if it meets the conditions of participation. All applicants will be evaluated on an equal basis with respect to the participation criteria.

The deadline to apply for an Expedited Trade Mission may be extremely short, potentially as little as 5 business days from the date the mission statement is posted. Short deadlines are needed to allow for recruitment and selection to be completed within 2-3 weeks. In most cases, as specified in the mission statement, applications received after the indicated deadline will be considered only if space and scheduling constraints permit.

The selection process for Expedited Trade Missions will not differ substantively from other trade missions, but will be compressed. The Department will endeavor to complete selection within 5 business days after the application deadline. Applicants for Expedited Trade Missions will be informed promptly whether or not they have been selected.

The timing for Expedited Trade Missions is expected to be extremely compressed. We encourage those selected for an Expedited Trade Mission to begin making arrangements to participate immediately. Business or entry visas may be required to participate on the mission. Applying for and obtaining such visas will be the responsibility of the mission participant. Government fees and processing expenses to obtain such visas are not included in the participation fee. However, the Department of Commerce will provide instructions to each participant on the procedures required to obtain necessary business visas.

FOR FURTHER INFORMATION CONTACT: Frank Spector, Acting Director, Trade Missions Program, Phone: (202) 482-2054, Email: Frank.Spector@trade.gov.

Frank Spector,
Acting Director, Trade Missions Program.

[FR Doc. 2015-09802 Filed 4-27-15; 8:45 am]

BILLING CODE 3510-DR-P